JUDICIAL CONFERENCE OF THE UNITED STATES

Meeting of the Judicial Conference Advisory Committee on Rules of Appellate Procedure

AGENCY: Advisory Committee on Rules of Appellate Procedure, Judicial Conference of the United States.

ACTION: Notice of open meeting and hearing.

SUMMARY: The Advisory Committee on Rules of Appellate Procedure will hold a two-day meeting. Included in the meeting will be a hearing held on the first morning of the meeting. Both the meeting and hearing will be open to public observation but not participation.

DATES: April 13-14, 2004.

Time and Place:

Hearing: April 13, 8:30 a.m. to 1 p.m., Sentencing Commission, Suite 2-500.

Meeting: April 13, 2 p.m. to 5 p.m., Judicial Conference Center, April 14, 8:30 a.m. to 5 p.m., Judicial Conference Center.

ADDRESSES: Thurgood Marshall Federal Judiciary Building, Judicial Conference Center, One Columbus Circle, NE., Washington, DC.

FOR FURTHER INFORMATION CONTACT: John K. Rabiej, Chief, Rules Committee Support Office, Administrative Office of the United States Courts, Washington, DC 20544, telephone (202) 502-1820.

Dated: March 29, 2004.
John K. Rabiej,
Chief, Rules Committee Support Office.

[FR Doc. 04-7443 Filed 4-1-04; 8:45 am]

BILLING CODE 2210-55-M